DEPARTMENT OF COMMERCE

National Oceanic and Atmospheric Administration

50 CFR Part 622

[Docket No. 000211038-0038-01; I.D. 101499D]

RIN 0648-AM93

Fisheries of the Caribbean, Gulf of Mexico, and South Atlantic; Snapper-Grouper Fishery off the Southern Atlantic States; Greater Amberjack Trip Limit; Resubmission of Disapproved Measure in Amendment 9

AGENCY: National Marine Fisheries Service (NMFS), National Oceanic and Atmospheric Administration (NOAA), Commerce.

ACTION: Proposed rule; request for comments.

SUMMARY: NMFS proposes a rule that would implement a previously disapproved 1,000-lb (454-kg) commercial trip limit for greater amberjack as originally contained in Amendment 9 to the Fishery Management Plan for the Snapper-Grouper Fishery of the South Atlantic Region (FMP). The intended effect of the trip limit is to prevent overfishing and conserve and manage greater amberjack.

DATES: Comments on this proposed rule must be received at the appropriate address or fax number, (see ADDRESSES), no later than 5:00 p.m., eastern standard time, on June 19, 2000.

ADDRESSES: Copies of documents supporting the proposed commercial trip limit for greater amberjack may be obtained upon request from the South Atlantic Fishery Management Council, One Southpark Circle, Suite 306, Charleston, SC 29407-4699; telephone: 843-571-4366; fax: 843-769-4520.

Copies of the economic analyses of the proposed commercial trip limit for greater amberjack may be obtained upon request from the Southeast Regional Office, NMFS, 9721 Executive Center Drive N., St. Petersburg, FL 33702; telephone: 727-570-5305; fax: 727-570-5583.

Written comments on this proposed rule may be submitted to the Southeast Regional Office, NMFS, 9721 Executive Center Drive N., St. Petersburg, FL 33702. Comments also may be sent via fax to 727-570-5583. Comments will not be accepted if submitted via e-mail or Internet.

FOR FURTHER INFORMATION CONTACT: Peter J. Eldridge, telephone: 727-570-5305, fax: 727-570-5583, e-mail: Peter.Eldridge@noaa.gov.

SUPPLEMENTARY INFORMATION: The snapper-grouper fishery off the southern Atlantic states is managed under the FMP. The FMP was prepared by the South Atlantic Fishery Management Council (Council) and approved and implemented by NMFS under the authority of the Magnuson-Stevens Fishery Conservation and Management Act (Magnuson-Stevens Act) through regulations at 50 CFR part 622.

NMFS determined that the status of the greater amberjack stock relative to the FMP's current overfishing definition is unknown in the Report to Congress: Status of Fisheries of the United States, NMFS, October 1999. Current data show declines in average size and landings of greater amberjack. Accordingly, in Amendment 9 to the FMP the Council proposed precautionary measures to ensure that greater amberjack did not approach an overfished condition. Specifically, Amendment 9 to the FMP proposed to: (1) Reduce the recreational bag limit from 3 to 1 greater amberjack per person per day; (2) prohibit harvest and possession in excess of the bag limit during April throughout the EEZ; (3) establish a 1000-lb (454-kg) commercial trip limit with no more than one trip allowed per day; (4) establish a commercial quota of 1,169,931 lb (530,672 kg) (63 percent of 1995 landings); (5) begin the fishing year May 1; (6) prohibit the sale of greater amberjack harvested under the bag limit when the season is closed; and (7) prohibit coring (removal of the head from the carcass).

On September 8, 1998, NMFS announced the availability of Amendment 9 to the FMP and requested public comments on it (63 FR 47461). On November 12, 1998, NMFS published a proposed rule to implement the measures in Amendment 9 to the FMP and requested comments on this rule (63 FR 63276). On December 9, 1998, after considering the comments received on the amendment and the proposed rule, NMFS partially approved Amendment 9 to the FMP. NMFS disapproved the proposed 1,000-lb (454-kg) commercial trip limit for greater amberjack because information at that time indicated that the benefits of the trip limit did not exceed costs. Subsequently, NMFS conducted another economic analysis of the expected effects of this measure, based on more recent information, that indicates that the benefits of the trip limit may exceed costs (net benefits), especially if a “derby” fishery is prevented. Based on the conclusions of the supplemental economic analysis, the Council resubmitted the proposed commercial trip limit for greater amberjack, as contained in Amendment 9 to the FMP, to NMFS for review, approval, and implementation. On January 26, 2000, NMFS approved the amberjack trip limit measure.

Classification

This proposed rule has been determined to be significant for purposes of Executive Order 12866.

The Council prepared a final supplemental environmental impact statement for Amendment 9 to the FMP that assessed the environmental impacts of its greater amberjack trip limit. A notice of its availability was published on October 9, 1998 (63 FR 54476).

The Chief Counsel for Regulation of the Department of Commerce has certified to the Chief Counsel for Advocacy of the Small Business Administration that this proposed rule, if adopted, would not have a significant economic impact on a substantial number of small entities. The factual basis for the certification is based on NMFS' analyses and is summarized as follows:

Determination of Nature and Size of Economic Impacts on Small Entities: This determination and discussion is based on a series of analyses conducted by NMFS following the original disapproval decision by the Secretary of Commerce and the subsequent resubmittal of the action. One part of the determination is to decide if a substantial number of the population will be affected by the proposed Federal action and defining the population is key to the determination of substantial number. For the purposes of this determination, a narrow definition of the population that might be impacted by the action will be used. Although there are about 2,000 vessels permitted to legally harvest greater amberjack, the population is defined as being limited to those vessels that actually landed greater amberjack in the most recent fishing year for which data are available. It is further determined that all of these fishing vessels represent small entities as defined by the Small Business Administration. During the 1996-97 fishing year a total of 553 commercial fishing craft landed greater amberjack and took 3685 trips on which landings of greater amberjack were reported. Of the 553 fishing craft that could be potentially impacted, 73 reported a total of 290 trips that resulted in landing over 1,000 pounds of greater amberjack on at least one trip during the 1996-97 fishing season. In terms of the population as defined, 13 percent of the population had one or more trips on which 1,000 pounds of greater amberjack were landed and this represents 8 percent of all greater amberjack trips.

The fishing craft (small entities) expected to be directly impacted by the action are engaged in commercial fishing activities that result in the landing and sale of a variety of snapper grouper species as well as other species. In other words, these fishing businesses are not totally dependent on their ability to harvest greater amberjack. For those 73 entities reporting at least one trip on which 1,000 pounds of greater amberjack were reported, they had average gross revenues from fishing of $41,342 for the 1996-97 fishing year and $12,274, or about 30 percent of that average gross revenue, was attributed to landings of greater amberjack. Assuming no changes in fishing behavior if the trip limit is implemented, the amount of greater amberjack revenue in excess of the 1,000 pound trip limit during the 1996-97 fishing season could be interpreted as “lost” revenue for those trips that resulted in greater amberjack catches in excess of 1,000 pounds. However, it is known from empirical observations in other fisheries where a trip limit was introduced that fishing behavior indeed changes. The behavior can be of two different general types. When trip limits are introduced and the vessel cannot generate enough gross revenue from the trip to cover costs, the entity will either forego fishing for the species in question or will attempt to switch target species if that avenue is available. The other straightforward behavior change is to take additional trips of the original target species if the expected gross revenue will more than cover the costs of the trip. Because the data existed for this fishery, an extension of the analysis was conducted to investigate the probable change in fishing behavior and this analysis indicated that the fishermen would tend to take additional trips for greater amberjack rather than ceasing fishing or switching to an alternate species. The analysis resulted in an expectation that those vessels directly impacted by the trip limit would take an average of about 4 extra trips targeting greater amberjack if the trip limit is implemented. The analysis further indicated that the overall outcome of the trip limit would be a loss of about 3 percent of net operating revenue (gross revenue less trip costs) for the 73 vessels directly impacted or about four tenths of a percent loss in net operating revenue for the entire population of 553 vessels that land greater amberjack. Recalling that species other than greater amberjack are also harvested by these vessels, the 4 extra trips would also result in additional revenues derived from landing other species in association with greater amberjack. However, the landings and revenue associated with the 4 extra trips per vessel were not specifically calculated and are thus not considered in the analysis except to note that the impact would be lessened if these additional landings were to be considered. The trip limit is not expected to result in any of the affected small entities being forced to cease business operations if the trip limit goes into effect. This result is based on the analysis of vessel behavior following the imposition of a trip limit and the analysis indicated that a trip limit of 1,000 pounds would allow for the full recovery of the trip costs and additional trips would be taken instead of the small entity ceasing business operations.

There are no capital, operating, reporting or other compliance costs associated with the action and due to the lack of such costs there are no differential impacts for small versus large entities. Similarly, since there are no capital costs of compliance, there is no issue related to the total amount of capital available to the small entities that may be affected by the action.

Overall Conclusion: These results indicate that a substantial number of small entities will not be impacted to a significant degree by the action to implement a 1,000 pound trip limit for commercial fishermen operating in the snapper grouper fishery of the South Atlantic.

Copies of NMFS' economic analysis are available (see ADDRESSES).

List of Subjects in 50 CFR Part 622

Fisheries, Fishing, Puerto Rico, Reporting and recordkeeping requirements, Virgin Islands.

Dated: May 12, 2000.
Andrew A. Rosenberg,
Deputy Assistant Administrator for Fisheries, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.44, paragraph (c)(4) is added to read as follows:

§ 622.44 Commercial trip limits.

* * * * *

(c) * * *

(4) Greater amberjack. Until the fishing year quota specified in § 622.42(e)(3) is reached, 1,000 lb (454 kg). No more than one trip may be made per day. See § 622.43(a)(5)(i) for the limitations regarding greater amberjack after the fishing year quota is reached.

* * * * *

[FR Doc. 00-12577 Filed 5-17-00; 8:45 am]

BILLING CODE 3510-22-F